DEPARTMENT OF TRANSPORTATION

Federal Aviation Administration

14 CFR Part 39

[Docket No. FAA-2004-19568; Directorate Identifier 2004-NM-112-AD]

RIN 2120-AA64

Airworthiness Directives; Dornier Model 328-300 Series Airplanes

AGENCY: Federal Aviation Administration (FAA), DOT.

ACTION: Notice of proposed rulemaking (NPRM).

SUMMARY: The FAA proposes to adopt a new airworthiness directive (AD) for certain Dornier Model 328-300 series airplanes. This proposed AD would require repetitive inspections for discrepancies of the heat pack rotor assembly and rotor drive clips of the brake unit of the main landing gear (MLG), and replacing the assembly if any discrepancy is found. This proposed AD is prompted by reports of cracking and breakage of the heat pack rotor assemblies. We are proposing this AD to find and fix discrepancies of the heat pack rotor assembly of the brake unit of the MLG and consequent loss of braking capability, which could result in the airplane overrunning the runway during take-off or landing.

DATES: We must receive comments on this proposed AD by December 13, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact AvCraft Aerospace GmbH, P.O. Box 1103, D-82230 Wessling, Germany.

You can examine the contents of this AD docket on the Internet at http://dms.dot.gov, or in person at the Docket Management Facility, U.S. Department of Transportation, 400 Seventh Street, SW., room PL-401, on the plaza level of the Nassif Building, Washington, DC.

FOR FURTHER INFORMATION CONTACT: Technical information: Dan Rodina, Aerospace Engineer, International Branch, ANM-116, FAA, Transport Airplane Directorate, 1601 Lind Avenue, SW., Renton, Washington 98055-4056; telephone (425) 227-2125; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19568; Directorate Identifier 2004-NM-112-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Luftfahrt-Bundesamt (LBA), which is the airworthiness authority for Germany, notified us that an unsafe condition may exist on certain Dornier Model 328-300 series airplanes. The LBA advises that operators have reported inspection findings of cracking and breakage of the heat pack rotor assemblies at the rotor drive clips of the brake unit of the main landing gear (MLG). The cause of these discrepancies is under investigation. These discrepancies, if not corrected, could result in the airplane overrunning the runway during take-off or landing.

Relevant Service Information

Dornier has issued Service Bulletin 328J-32-169, dated November 20, 2002; including Dunlop Aerospace Limited Service Bulletin AHA2227-32-1292, Revision 1, dated July 19, 2002. The service bulletin describes procedures for repetitive detailed visual inspections/checks for discrepancies of the heat pack rotor assembly and rotor drive clips of the brake unit of the MLG, and replacement of the heat pack assembly with a new assembly if any discrepancy is found. The discrepancies include the following:

• Cracks or breakage of the heat pack rotor assembly.

• Rotors with clips that are loose or have missing rivets.

• Rotors with large pieces of carbon missing.

Accomplishing the actions specified in the service information is intended to adequately address the unsafe condition.

The LBA mandated the service information and issued German airworthiness directive D-2004-003, dated January 8, 2004, to ensure the continued airworthiness of these airplanes in Germany.

FAA's Determination and Requirements of the Proposed AD

This airplane model is manufactured in Germany and is type certificated for operation in the United States under the provisions of section 21.29 of the Federal Aviation Regulations (14 CFR 21.29) and the applicable bilateral airworthiness agreement. Pursuant to this bilateral airworthiness agreement, the LBA has kept the FAA informed of the situation described above. We have examined the LBAs findings, evaluated all pertinent information, and determined that we need to issue an AD for products of this type design that are certificated for operation in the United States.

Therefore, we are proposing this AD, which would require accomplishing the actions specified in the service information described previously, except as discussed under “Differences Between the Proposed AD and Service Information.”

Differences Between the Proposed AD and Service Information

Although the service bulletin specifies to return any unserviceable heat pack assemblies with unserviceable rotor assemblies to the parts manufacturer, this proposed AD would not include that requirement.

Although the service bulletin recommends accomplishing the inspection/check of the heat pack rotor assemblies “at every wheel removal and at every brake installation,” we have determined that this imprecise compliance time would not address the identified unsafe condition in a timely manner. In developing an appropriate compliance time for this AD, we considered not only the manufacturer's recommendation, but the degree of urgency associated with addressing the subject unsafe condition, the average utilization of the affected fleet, and the time necessary to perform the inspection. In light of all of these factors, we find a compliance time of “At the next brake installation or within 24 months after the effective date of this AD” for completing the initial inspection, and at repetitive intervals “not to exceed the next brake installation or 24 months, whichever occurs first,” to be warranted, in that those times represent precise times for affected airplanes to continue to operate without compromising safety.

These differences have been coordinated with the LBA.

Clarification of Inspection Terminology

In this proposed AD, the “detailed visual inspection/check” specified in the service bulletin is referred to as a “detailed inspection.” We have included the definition for a detailed inspection in a note in the proposed AD.

Interim Action

We consider this proposed AD interim action. If final action is later identified, we may consider further rulemaking then.

Costs of Compliance

This proposed AD would affect about 49 airplanes of U.S. registry. The proposed inspection would take about 1 work hour per airplane, at an average labor rate of $65 per work hour. Based on these figures, the estimated cost of the proposed AD for U.S. operators is $3,185, or $65 per airplane, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation: 1. Is not a “significant regulatory action” under Executive Order 12866; 2. Is not a “significant rule” under the DOT Regulatory Policies and Procedures (44 FR 11034, February 26, 1979); and 3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Fairchild Dornier GmbH (Formerly Dornier Luftfahrt GmbH): Docket No. FAA-2004-19568; Directorate Identifier 2004-NM-112-AD.

Comments Due Date

(a) The Federal Aviation Administration must receive comments on this AD action by December 13, 2004.

Affected ADs

(b) None.

Applicability

(c) This AD applies to Dornier Model 328-300 series airplanes; certificated in any category; equipped with a Dunlop brake unit having part number AHA2227-3 or -4.

Unsafe Condition

(d) This AD was prompted by reports of cracking and breakage of the heat pack rotor assemblies. We are issuing this AD to find and fix discrepancies of the heat pack rotor assembly of the brake unit of the main landing gear (MLG) and consequent loss of braking capability, which could result in the airplane overrunning the runway during take-off or landing.

Compliance

(e) You are responsible for having the actions required by this AD performed within the compliance times specified, unless the actions have already been done.

Repetitive Inspections/Replacement if Necessary

(f) At the next brake installation or within 24 months after the effective date of this AD, whichever is first: Accomplish a detailed inspection for discrepancies of the heat pack rotor assembly and rotor drive clips of the brake unit of the MLG by doing all the actions specified in the Accomplishment Instructions of Dornier Service Bulletin 328J-32-169, dated November 20, 2002. If any discrepancy is found, before further flight, replace the heat pack rotor assembly with a new assembly in accordance with the service bulletin. Repeat the inspection thereafter at intervals not to exceed the next brake installation or 24 months, whichever is first.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(g) The Manager, International Branch, ANM-116, Transport Airplane Directorate, FAA, has the authority to approve AMOCs for this AD, if requested in accordance with the procedures found in 14 CFR 39.19.

Related Information

(h) German airworthiness directive D-2004-003, dated January 8, 2004, also addresses the subject of this AD.

Issued in Renton, Washington, on November 3, 2004.
Kevin M. Mullin,
Acting Manager, Transport Airplane Directorate, Aircraft Certification Service.

[FR Doc. 04-25192 Filed 11-10-04; 8:45 am]

BILLING CODE 4910-13-P